COMMODITY FUTURES TRADING COMMISSION

Joint Audit Committee Operating Agreement

AGENCY: Commodity Futures Trading Commission.

ACTION: Reopening comment period.

SUMMARY: The Commodity Futures Trading Commission (“Commission”) is reopening the comment period for interested parties to comment on the Joint Audit Committee Operating agreement which was submitted to the Commission for approval pursuant to Commission Regulation 1.52.

DATES: Written comments must be received on or before November 13, 2008.

ADDRESSES: Interested persons should submit their views and comments to David Stawick, Secretary, Commodity Futures Trading Commission, Three Lafayette Centre, 1155 21st Street, NW., Washington, DC 20581. In addition, comments may be sent by facsimile transmission to (202) 418-5521, or by electronic mail to secretary@cftc.gov. Reference should be made to “Joint Audit Committee”. This document also will be available for comment at http://www.regulations.gov.

FOR FURTHER INFORMATION CONTACT: Thomas J. Smith, Deputy Director and Chief Accountant, or Jennifer Bauer, Special Counsel, Division of Clearing and Intermediary Oversight, Commodity Futures Trading Commission, jbauer@cftc.gov, Three Lafayette Centre, 1155 21st Street, NW., Washington, DC 20581. Telephone (202) 418-5472.

SUPPLEMENTARY INFORMATION: On September 11, 2008, the Commission published for public comment an amended operating agreement submitted by the Joint Audit Committee for approval under Commission Regulation 1.52.

The Commission established a 30-day period for submitting public comment on the proposed JAC agreement, ending October 14, 2008. By letter dated October 9, 2008, an association of futures industry participants, whose members include firms that are registered as futures commission members, requested an extension of the original comment period. In response to this request, and in order to ensure that an adequate opportunity is provided for submission of meaningful comments, the Commission has determined to reopen the comment period on the approval of the JAC agreement for an additional 30 days as requested.

Issued in Washington, DC, on October 15, 2008 by the Commission.
David A. Stawick,
Secretary of the Commission.

[FR Doc. E8-24990 Filed 10-20-08; 8:45 am]

BILLING CODE 6351-01-P